DEPARTMENT OF THE INTERIOR

Bureau of Land Management

[ID 100 1220MA 214A: DBG071008]

Notice of Public Meeting: Joint Recreation Resource Advisory Council Subcommittee to the Boise and Twin Falls Districts, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Boise and Twin Falls District Recreation Resource Advisory Council (Rec-RAC) Subcommittee, will hold a meeting as indicated below.

DATES: The meeting will be held July 12, 2007, beginning at 9 a.m. and adjourning at 12 noon. The meeting will be held at the Oregon Trail Interpretative Center, West Madison Street, Glenns Ferry, Idaho. Public comment periods will be held before the conclusion of the meeting.

FOR FURTHER INFORMATION CONTACT: MJ Byrne, Public Affairs Officer and RAC Coordinator, BLM Boise District, 3948 Development Ave., Boise, ID 83705, Telephone (208) 384-3393, or Heather Tiel, Public Affairs Officer, BLM Twin Falls District, 2536 Kimberly Rd., Twin Falls, ID 83301, (208) 735-2076.

SUPPLEMENTARY INFORMATION: In accordance with section 4 of the Federal Lands Recreation Enhancement Act of 2005, a Subcommittee has been established to provide advise to the Secretary of the Interior, through the BLM, in the form of recommendations that relate to public concerns regarding the implementation, elimination or expansion of an amenity recreation fee; or recreation fee program on public lands under the jurisdiction of the U.S. Forest Service and the BLM in both the Boise and Twin Falls Districts located in southern Idaho. The Resource Advisory Councils in each District have formally approved the members of the new Joint Rec-RAC Subcommittee, including any non-RAC member. Items on the agenda include introductions; review and discussion of roles and responsibilities of the subcommittee members as well as the Coordinators from each of the two agencies. A draft charter will be presented for discussion review and for approval at the Joint RAC meeting of the Boise and Twin Falls RACs to be held in the fall of 2007. Information about the proposed fee changes at sites under the jurisdiction of the two agencies will be presented to enable subcommittee member's time for review prior to the next meeting when they will be asked to approve fee changes. Agenda items and location may change due to changing circumstances, including wildfire emergencies. All meetings are open to the public. The public may present written comments to the Subcommittee. Each formal subcommittee meeting will also have time allocated for hearing public comments. Depending on the number of persons wishing to comment and time available, the time for individual oral comments may be limited. Individuals who plan to attend and need special assistance, such as sign language interpretation, tour transportation or other reasonable accommodations, should contact the BLM Coordinators as provided above. Expedited publication is requested to give the public adequate notice.

Dated: June 7, 2007.
Jerry L. Taylor,
District Manager.

[FR Doc. E7-11391 Filed 6-12-07; 8:45 am]

BILLING CODE 4310-GG-P